DEPARTMENT OF COMMERCE

Foreign-Trade Zones Board

[Docket 23-2008]

Foreign-Trade Zone 26 Atlanta, Georgia, Application for Subzone, Noramco, Inc. (Pharmaceutical Intermediate Manufacturing), Athens, Georgia

An application has been submitted to the Foreign-Trade Zones (FTZ) Board (the Board) by the Georgia Foreign-Trade Zone, Inc., grantee of FTZ 26, requesting special-purpose subzone status with manufacturing authority at the pharmaceutical intermediate manufacturing facility of Noramco, Inc. (Noramco), located in Athens, Georgia. The application was submitted pursuant to the Foreign-Trade Zones Act, as amended (19 U.S.C. 81a-81u), and the regulations of the Board (15 CFR part 400). It was formally filed on April 3, 2008.

Noramco, a wholly-owned subsidiary of Johnson & Johnson, Inc., produces intermediates for prescription and over-the-counter pharmaceutical products. Noramco has requested authority to manufacture under zone procedures an active ingredient (Tapentadol Hydrochloride) for a new prescription analgesic product at the facility (170 employees). The proposed subzone facility (130 acres, 121,300 sq. ft. within 3 buildings for the proposed activity) is located at 1440 Olympic Drive, Athens, Georgia.

Foreign-origin chemical ingredient inputs to be used in the manufacturing process (about half of finished product value) have duty rates ranging from 3.7 percent to 6.5 percent, ad valorem. The applicant is also requesting to import polyethylene bags and poly drums, duty rates 3 percent and 5.3 percent respectively, for use in processing of the active ingredient. FTZ procedures would exempt Noramco from customs duty payments on foreign materials used in export production. At this time, the final product will only be marketed in the United States; however, the plant may in the future support export of the final product to Canada and Japan. On its domestic shipments, Noramco could defer duty until the product is entered for consumption, and choose the duty-free rate that applies to the finished active ingredient for the foreign inputs used in production. The company may also realize certain logistical/procedural savings related to weekly entry and direct delivery procedures, as well as savings on materials that become scrap/waste during manufacturing. The application indicates that FTZ procedures would help improve the plant's international competitiveness.

In accordance with the Board's regulations, Diane Finver of the FTZ staff is designated examiner to investigate the application and report to the Board.

Public comment is invited from interested parties. Submissions (original and 3 copies) shall be addressed to the Board's Executive Secretary at the address below. The closing period for their receipt is June 16, 2008. Rebuttal comments in response to material submitted during the foregoing period may be submitted during the subsequent 15-day period (to June 30, 2008).

A copy of the application will be available for public inspection at each of the following locations: U.S. Department of Commerce Export Assistance Center, 75 Fifth Street, N.W, Suite 1055, Atlanta, Georgia 30308; and, Office of the Executive Secretary, Foreign-Trade Zones Board, Room 2111, U.S. Department of Commerce, 1401 Constitution Avenue, NW, Washington, D.C. 20230-0002.For further information, contact Diane Finver at Diane_Finver@ita.doc.gov or (202) 482-1367.

Dated: April 3, 2008.
Andrew McGilvray,
Executive Secretary.

[FR Doc. E8-8030 Filed 4-14-08; 8:45 am]

BILLING CODE 3510-DS-S